DEPARTMENT OF THE INTERIOR

Bureau of Land Management

[LNV912000-L12200000.PH0000; 09-0887; TAS: 14X1109]

Call for Nominations for the Sierra Front-Northwestern Great Basin Resource Advisory Council, Nevada

AGENCY: Bureau of Land Management, Interior.

ACTION: Notice of Call for Nominations for Resource Advisory Committee.

SUMMARY: The Bureau of Land Management (BLM) Carson City District Office is soliciting nominations for one representative who works or teaches at a college in Nevada as an academician in natural resource management or the natural sciences, to serve on its Sierra Front-Northwestern Great Basin Resource Advisory Council (RAC) for the 2009-2011 three-year term. Individuals may nominate themselves or others. Nominees must be residents of Nevada, and will be evaluated based on their education, training, experience, and their knowledge of northeastern Nevada. Nominees should have demonstrated a commitment to collaborative resource decision making.

DATES: A 45-day nomination period will close January 22, 2009.

ADDRESSES: Nomination packages for the Sierra Front-Northwestern Great Basin RAC position should be mailed to the Bureau of Land Management, Carson City District Office, Attn: Mark Struble, 5665 Morgan Mill Road, Carson City, NV 89701.

FOR FURTHER INFORMATION CONTACT: Mark Struble, (775) 885-6107 or Mark_Struble@blm.gov.

SUPPLEMENTARY INFORMATION: The Federal Land Policy and Management Act (FLPMA) directs the Secretary of Interior to involve the public in planning and issues related to management of lands administered by BLM. Section 309 of FLPMA directs the Secretary to select 10 to 15 member citizen-based advisory councils that are established and authorized consistent with the requirements of the Federal Advisory Committee Act (FACA). As required by the FACA, RAC membership must be balanced and representative of the various interests concerned with the management of the public lands.

All nominations must include letters of reference from represented interests or organizations, a completed background information nomination form, as well as any other information that speaks to the nominee's qualifications. For questions about the application process or to request a nomination form, call Mark Struble. Nomination forms are also available online at: http://www.blm.gov/nv.

Nominees should live within the geographical area encompassed by the Sierra Front-Northwestern Great Basin RAC, which advises BLM on operations in Washoe, Humboldt, Pershing, Churchill, Storey, Douglas, Lyon, Mineral and Carson City counties. The RAC provides advice and recommendations to the Secretary of the Interior, through the BLM district managers and state director regarding the management of public lands within the Council's geographic area. The RAC will meet several times a year, usually quarterly, in the Carson City and Winnemucca areas.

Dated: December 1, 2008.
Ron Wenker,
State Director, Nevada.

[FR Doc. E8-28995 Filed 12-5-08; 8:45 am]

BILLING CODE 4310-HC-P